DEPARTMENT OF TRANSPORTATION

Federal Aviation Administration

14 CFR Part 39

[Docket No. 2001-CE-11-AD; Amendment 39-12503; AD 2001-23-06]

RIN 2120-AA64

Airworthiness Directives; SOCATA—Groupe Aerospatiale Model TBM 700 Airplanes

AGENCY: Federal Aviation Administration, DOT.

ACTION: Final rule.

SUMMARY: This amendment adopts a new airworthiness directive (AD) that applies to certain SOCATA—Groupe Aerospatiale (Socata) Model TBM 700 airplanes. This AD requires you to inspect for defective Amendment A fuel tank air vent valves and replace with parts of improved design. This AD is the result of mandatory continuing airworthiness information (MCAI) issued by the airworthiness authority for France. The actions specified by this AD are intended to prevent in-flight damage to the wing skins caused by abnormal venting conditions of the wing fuel tank, which could result in severe handling problems or reduced structural capability. Continued operation with such structural deformation or handling problems could result in loss of control of the airplane.

DATES: This AD becomes effective on December 27, 2001.

The Director of the Federal Register approved the incorporation by reference of certain publications listed in the regulations as of December 27, 2001.

ADDRESSES: You may get the service information referenced in this AD from SOCATA Groupe Aerospatiale, Customer Support, Aerodrome Tarbes-Ossun-Lourdes, BP 930-F65009 Tarbes Cedex, France; telephone: 011 33 5 62 41 73 00; facsimile: 011 33 5 62 41 76 54; or the Product Support Manager, SOCATA—Groupe Aerospatiale, North Perry Airport, 7501 Pembroke Road, Pembroke Pines, Florida 33023; telephone: (954) 894-1160; facsimile: (954) 964-4191. You may view this information at the Federal Aviation Administration (FAA), Central Region, Office of the Regional Counsel, Attention: Rules Docket No. 2001-CE-11-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Direction Générale de l'Aviation Civile (DGAC), which is the airworthiness authority for France, recently notified FAA that an unsafe condition may exist on certain Socata Model TBM 700 airplanes. The DGAC reports that Amendment A fuel tank air vent valve floats may block the air vent valve in the closed position making the valve defective. This condition is the result of a change in the manufacturing of the fuel tank air vent valve.

The DGAC reports one occurrence on a Socata Model TBM 700 airplane of abnormal venting conditions of the wing fuel tank due to a fuel tank air vent valve float blocking the air vent valve in the closed position.

What is the potential impact if FAA took no action? This condition, if not corrected, could result in severe handling problems or reduced structural capability. Continued operation with such structural deformation or handling problems could result in loss of control of the airplane.

Has FAA taken any action to this point? We issued a proposal to amend part 39 of the Federal Aviation Regulations (14 CFR part 39) to include an AD that would apply to certain Socata Model TBM 700 airplanes. This proposal was published in the Federal Register as a notice of proposed rulemaking (NPRM) on August 24, 2001 (66 FR 44558). The NPRM proposed to require you to inspect the fuel tank air vent valve to determine the Amendment level of the part and replace the defective Amendment A fuel tank air vent valve with a part of improved design (Amendment B).

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How many airplanes does this AD impact? We estimate that this AD affects 38 airplanes in the U.S. registry.

What is the cost impact of this AD on owners/operators of the affected airplanes? We estimate the following costs to accomplish the inspection:

Labor cost | Parts cost | Total cost per airplane | Total cost on U.S. operators
2 workhours × $60 per hour = $120 | No parts required for the inspection | $120 | $4,560

We estimate the following costs to accomplish the replacement:

Labor cost | Parts cost | Total cost per airplane
2 workhours × $60 per hour = $120 | No cost for part | $120

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-23-06 Socata—Groupe Aerospatiale: Amendment 39-12503; Docket No. 2001-CE-11-AD.

(a) What airplanes are affected by this AD? This AD affects the following Model TBM 700 airplanes that are certificated in any category:

Serial Numbers

114, 117, 118, 121 through 173, 175 through 177, 179 through 184, 186, and 187

(b) Who must comply with this AD? Anyone who wishes to operate any of the above airplanes must comply with this AD.

(c) What problem does this AD address? The actions specified by this AD are intended to prevent in-flight damage to the wing skins caused by abnormal venting conditions of the wing fuel tank, which could result in severe handling problems or reduced structural capability. Continued operation with such structural deformation could result in loss of control of the airplane.

(d) What actions must I accomplish to address this problem? To address this problem, you must accomplish the following:

Actions | Compliance | Procedures
(1) Inspect the upper surface of the fuel tank air vent valve for modification stamp “Amdt A”. (i) If the fuel tank air vent valve is stamped “Amdt A” on the uper surface, install a fuel tank air vent valve that incorporates Amendment B modifications. (ii) If modification stamp “Amdt A” is not on the upper surface of the fuel tank air vent valve, reinstall the valve and no further action is required by paragraph (d)(1) of this AD | Inspect within the next 50 hours time-in-service (TIS) after December 27, 2001 (the effective date of this AD). Accomplish the installation or reinstallation prior to further flight after the inspection required in paragraph (d)(1) of this AD, unless already accomplished | In accordance with paragraph (B) of the ACCOMPLISHMENT INSTRUCTIONS in Socata Service Bulletin SB 70-090, dated December 2000, and the applicable maintenance manual.
(2) Do not install any fuel tank air vent valve that does not have Amendment B incorporated (or FAA-approved equivalent part) | As of December 27, 2001 (the effective date of this AD) | Not applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Socata Service Bulletin SB-70-090-28, dated December 2000. The Director of the Federal Register approved this incorporation by reference under 5 U.S.C. 552(a) and 1 CFR part 51. You can get copies from SOCATA Groupe Aerospatiale, Customer Support, Aerodrome Tarbes-Ossun-Lourdes, BP 930—F65009 Tarbes Cedex, France, or the Product Support Manager, SOCATA Groupe Aerospatiale, North Perry Airport, 7501 Pembroke Road, Pembroke Pines, Florida 33023. You can look at copies at the FAA, Central Region, Office of the Regional Counsel, 901 Locust, Room 506, Kansas City, Missouri, or at the Office of the Federal Register, 800 North Capitol Street, NW., suite 700, Washington, DC.

(i) When does this amendment become effective? This amendment becomes effective on December 27, 2001.

Note 2: The subject of this AD is addressed in French AD 2001-004(A), dated January 10, 2001.

Issued in Kansas City, Missouri, on November 5, 2001.
Michael Gallagher,
Manager, Small Airplane Directorate, Aircraft Certification Service.

[FR Doc. 01-28331 Filed 11-16-01; 8:45 am]

BILLING CODE 4910-13-P